DEPARTMENT OF THE INTERIOR

Bureau of Reclamation

[RR02013000, 16XR0680G3, RX178511101000000]

Notice of Availability for the Final Environmental Impact Statement/Environmental Impact Report for the Mendota Pool Bypass and Reach 2B Improvements Project

AGENCY: Bureau of Reclamation, Interior.

ACTION: Notice.

SUMMARY: The Bureau of Reclamation and the California State Lands Commission have prepared the Mendota Pool Bypass and Reach 2B Improvements Project Final Environmental Impact Statement/Environmental Impact Report (EIS/EIR). The Mendota Pool Bypass and Reach 2B Improvements Project is a component of Phase 1 of the San Joaquin River Restoration Program which seeks to restore flows to the San Joaquin River from Friant Dam to the confluence of the Merced River, and restore a self-sustaining Chinook salmon fishery in the river while reducing or avoiding adverse water supply impacts associated with restoration flows. The Project includes the construction, operation, and maintenance of the Mendota Pool Bypass and improvements in the San Joaquin River channel in Reach 2B to contribute to achieving the San Joaquin River Restoration Program's Restoration Goal.

DATES: The Bureau of Reclamation (Reclamation) will not issue a final decision on the proposed action until at least 30 days after the date that the Environmental Protection Agency releases the Final EIS/EIR. After the EIS/EIR has been available for 30 days, Reclamation will complete a Record of Decision. The Record of Decision will state the action that Reclamation will implement and will discuss all factors considered in the decision.

ADDRESSES: Send written correspondence or requests for copies or a compact disc of the Final EIS/EIR to Ms. Becky Victorine, Bureau of Reclamation, San Joaquin River Restoration Program, 2800 Cottage Way, Room W-1727, Sacramento, California 95825, via email to rvictorine@usbr.gov, or by calling (916) 978-4624.

The Final EIS/EIR may be viewed on Reclamation's Web site at http://www.usbr.gov/mp/nepa/nepa_projdetails.cfm?Project_ID=4032. See the Supplementary Information section for locations where copies of the Final EIS are available for public review.

FOR FURTHER INFORMATION CONTACT: Ms. Katrina Harrison, Program Engineer, Bureau of Reclamation, via email at kharrison@usbr.gov, or at (916) 978-5465; or Chris Huitt, California State Lands Commission, via email at christopher.huitt@slc.ca.gov, or at (916) 574-2080.

SUPPLEMENTARY INFORMATION: The San Joaquin River Restoration Program (SJRRP) was established in late 2006 to implement the Stipulation of Settlement (Settlement) in Natural Resources Defense Council, et al. v. Kirk Rodgers, et al. The Mendota Pool Bypass and Reach 2B Improvements Project (Project) consists of establishing a floodplain width which would be capable of conveying at least 4,500 cubic feet per second (cfs), a method to bypass restoration flows around Mendota Pool, and a method to deliver water to Mendota Pool. The Project footprint extends from approximately 0.3 mile above the Chowchilla Bypass Bifurcation Structure to approximately one mile below the Mendota Dam in the area of Fresno and Madera counties, near the town of Mendota, California. This Final EIS/EIR has been prepared in coordination with the parties to the Settlement and the SJRRP Implementing Agencies, including the U.S. Fish and Wildlife Service, National Marine Fisheries Service, State of California Department of Water Resources, and State of California Department of Fish and Wildlife. National Marine Fisheries Service, U.S. Environmental Protection Agency, and the U.S. Army Corps of Engineers have been cooperating agencies in preparation of the Final EIS/EIR.

The EIS/EIR analyzes five alternatives. Under the No-Action Alternative, the Project would not be implemented. Although future conditions would not include the components described below in the Action Alternatives, other components of the SJRRP would be implemented following completion and receipt of appropriate environmental reviews and approvals, as necessary. Likely future conditions include implementation of the other components of the SJRRP selected alternative, as described in the 2012 Record of Decision and analyzed in the SJRRP Program EIS/EIR, including Restoration Flows similar to those that started January 2014, and other reasonably foreseeable actions expected to occur in the Project area.

Four Action Alternatives are analyzed in the EIS/EIR: Alternative A (Compact Bypass with Narrow Floodplain and South Canal), Alternative B (Compact Bypass with Consensus-Based Floodplain and Bifurcation Structure), Alternative C (Fresno Slough Dam with Narrow Floodplain and Short Canal), and Alternative D (Fresno Slough Dam with Wide Floodplain and North Canal). All four Action Alternatives are designed to provide conveyance of at least 4,500 cfs in Reach 2B and through the Mendota Pool Bypass, and diversion and screening of up to 2,500 cfs from Reach 2B into Mendota Pool. Constructed elements common to the Action Alternatives include the provision of fish habitat and passage, seepage control measures, removal of existing levees and structures, and levee and structure construction and modification, among other activities.

Alternative B (Compact Bypass with Consensus-Based Floodplain and Bifurcation Structure) [PREFERRED ALTERNATIVE], would construct the Compact Bypass Channel between Reach 2B and Reach 3 to bypass the Mendota Pool. Restoration Flows would enter Reach 2B at the Chowchilla Bifurcation Structure, flow through Reach 2B, then downstream to Reach 3 via the Compact Bypass Channel. The existing Chowchilla Bifurcation Structure would continue to divert San Joaquin River flows into the Chowchilla Bypass during flood operations, and a fish passage facility and control structure modifications would be included at the San Joaquin River control structure at the Chowchilla Bypass. A bifurcation structure would be built at the head of the Compact Bypass Channel to control diversions into Mendota Pool. Fish passage facilities would be built at the Compact Bypass bifurcation structure to provide passage around the structure and prevent fish being entrained in the diversion. The San Mateo Avenue crossing would be removed.

A Notice of Availability for the Draft EIS/EIR was published in the Federal Register on June 9, 2015 (80 FR 32604). The comment period for the Draft EIS/EIR ended on August 10, 2015. Public meetings on the Draft EIS/EIR were held on Wednesday, July 8, 2015, from 6 to 9 p.m., in Fresno, CA; Thursday, July 9, 2015, from 6 to 9 p.m., in Los Banos, CA; and Friday, July 10, 2015, from 9 a.m. to 12 noon, in Sacramento, CA. The Final EIS/EIR contains responses to all comments received and reflects comments and any additional information received during the review period.

Copies of the Final EIS/EIR are available for public review at the following locations:

1. Bureau of Reclamation, Mid-Pacific Region, Regional Library, 2800 Cottage Way, Sacramento, CA 95825.

2. Natural Resources Library, U.S. Department of the Interior, 1849 C Street NW., Main Interior Building, Washington, DC 20240-0001.

Public Disclosure

Before including your address, phone number, email address, or other personal identifying information in any communication, you should be aware that your entire communication—including your personal identifying information—may be made publicly available at any time. While you can ask us in your communication to withhold your personal identifying information from public review, we cannot guarantee that we will be able to do so.

Dated: April 13, 2016.
Pablo R. Arroyave,
Deputy Regional Director, Mid-Pacific Region.

[FR Doc. 2016-15891 Filed 7-7-16; 8:45 am]

BILLING CODE 4332-90-P